DEPARTMENT OF TRANSPORTATION

Federal Aviation Administration

14 CFR Part 39

[Docket No. FAA-2023-0160; Project Identifier MCAI-2022-01047-R; Amendment 39-22421; AD 2023-08-06]

RIN 2120-AA64

Airworthiness Directives; Airbus Helicopters

AGENCY: Federal Aviation Administration (FAA), DOT.

ACTION: Final rule.

SUMMARY: The FAA is adopting a new airworthiness directive (AD) for certain Airbus Helicopters (Airbus) Model AS332C, AS332C1, AS332L, AS332L1, AS332L2, and EC225LP helicopters. This AD is prompted by modifications developed by Airbus to address a report of an emergency exit window that required excessive pushing force to jettison. This AD requires removing skived polytetrafluoroethylene tape (PTFE tape) (if installed) and replacing certain polychloroprene seals with silicone seals, as specified in a European Union Aviation Safety Agency (EASA) AD, which is incorporated by reference. This AD also prohibits installing a jettisonable window unless the actions required by this AD have been accomplished. The FAA is issuing this AD to address the unsafe condition on these products.

DATES: This AD is effective June 22, 2023.

The Director of the Federal Register approved the incorporation by reference of a certain publication listed in this AD as of June 22, 2023.

ADDRESSES:

AD Docket: You may examine the AD docket at regulations.gov under Docket No. FAA-2023-0160; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material that is incorporated by reference in this final rule, contact EASA, Konrad-Adenauer-Ufer 3, 50668 Cologne, Germany; telephone +49 221 8999 000; email ADs@easa.europa.eu; internet easa.europa.eu. You may find the EASA material on the EASA website at ad.easa.europa.eu.

• You may view this service information at the FAA, Office of the Regional Counsel, Southwest Region, 10101 Hillwood Pkwy., Room 6N-321, Fort Worth, TX 76177. For information on the availability of this material at the FAA, call (817) 222-5110. It is also available at regulations.gov under Docket No. FAA-2023-0160.

FOR FURTHER INFORMATION CONTACT: Matthew Fuller, AD Program Manager, General Aviation & Rotorcraft Unit, Airworthiness Products Section, Operational Safety Branch, FAA, 10101 Hillwood Pkwy., Fort Worth, TX 76177; telephone (817) 222-5110; email matthew.fuller@faa.gov.

SUPPLEMENTARY INFORMATION:

Background

EASA, which is the Technical Agent for the Member States of the European Union, has issued a series of ADs, the most recent previously being EASA AD 2021-0012, dated January 11, 2021 (EASA AD 2021-0012), to correct an unsafe condition for certain Airbus Model AS332C, AS332C1, AS332L, AS332L1, AS332L2, and EC225LP helicopters.

The FAA issued a notice of proposed rulemaking (NPRM) to amend 14 CFR part 39 by adding an AD that would apply to Airbus Model AS332C, AS332C1, AS332L, AS332L1, AS332L2, and EC225LP helicopters. The NPRM published in the Federal Register on February 8, 2023 (88 FR 8238). The NPRM was prompted by modifications developed by Airbus to address a report of an emergency exit window that required excessive pushing force to jettison. The NPRM proposed to require accomplishing the actions specified in EASA AD 2021-0012, described previously, as incorporated by reference, except for any differences identified as exceptions in the regulatory text of this AD and except as discussed under “Differences Between this AD and EASA AD 2021-0012. The FAA is issuing this AD to address the unsafe condition on these products.

After the NPRM was issued, EASA AD 2021-0012 was revised with EASA AD 2021-0012R1, dated February 25, 2023 (EASA AD 2021-0012R1) to include an alternate method to modify the window jettisoning system. Because operators may request an alternate method of compliance for accomplishing the requirements of this AD, the FAA is not incorporating by reference EASA AD 2021-0012R1 but is incorporating by reference EASA AD 2021-0012 as proposed in the NPRM.

You may examine the MCAI in the AD docket at regulations.gov under Docket No. FAA-2023-0160.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products.

Related Service Information Under 1 CFR Part 51

EASA AD 2021-0012 requires modifying the windows jettisoning system.

This material is reasonably available because the interested parties have access to it through their normal course of business or by the means identified in ADDRESSES.

Other Related Service Information

The FAA reviewed Airbus Alert Service Bulletin (ASB) No. AS332-56.00.16, Revision 0, dated February 10, 2020, Airbus ASB No. AS332-56.00.18, Revision 0, dated September 23, 2020, Airbus ASB No. AS332-56.00.20, Revision 0, dated September 23, 2020, Airbus ASB No. AS332-56.00.21, Revision 0, dated September 23, 2020, Airbus ASB No. AS332-56.90.14, Revision 0, dated April 10, 2019, Airbus ASB No. EC225-56A013, Revision 1, dated February 10, 2020, Airbus ASB No. EC225-56A015, Revision 0, dated February 10, 2020, Airbus ASB No. EC225-56A016, Revision 0, dated February 10, 2020, and Airbus ASB No. EC225-56A017, Revision 0, dated February 10, 2020. This service information specifies procedures for modifying the windows jettisoning system. Depending on your helicopter configuration, the service information specifies procedures for removing PTFE tape (if installed), discarding certain internal seal keys and external extraction tapes, installing plugs on certain snap fasteners, removing certain emergency exit installation indications, measuring the thickness of certain windows, replacing certain windows, measuring the clearance between certain windows and the airframe, modifying certain assemblies of the external extraction tape with its associated marking (if necessary), and replacing certain polychloroprene seals with silicone seals.

The FAA also reviewed EASA AD 2021-0012R1, which requires modifying the windows jettisoning system and provides an alternate method for modifying the window jettisoning system than that required in EASA AD 2021-0012.

Differences Between This AD and EASA AD 2021-0012

EASA AD 2021-0012 requires compliance within 250 flight hours or 6 months for certain helicopters not operated over water and within 110 flight hours or 6 months for certain other helicopters operated over water. EASA AD 2021-0012 also requires compliance within 25 months for all other affected helicopters. However, this AD requires compliance within 110 hours time-in-service for all helicopters.

Where the service information referenced in EASA AD 2021-0012 specifies discarding parts, this AD requires removing those parts from service. The service information referenced in EASA AD 2021-0012 specifies contacting Airbus Helicopter to obtain a technical solution, whereas this AD requires repair done in accordance with a method approved by the FAA, EASA, or Airbus Helicopters' EASA Design Organization Approval. The service information referenced in EASA AD 2021-0012 specifies using a video, whereas this AD does not.

This AD also prohibits installing a jettisonable window unless the actions required by this AD have been accomplished, whereas EASA AD 2021-0012 does not require any installation limitations.

Costs of Compliance

The FAA estimates that this AD affects 39 helicopters of U.S. Registry. Labor costs are estimated at $85 per work-hour. Based on these numbers, the FAA estimates the following costs to comply with this AD.

Modifying a window takes about 2 work-hours and parts cost about $220 for an estimated cost of $390 per window. There may be up to twelve affected windows on a helicopter for an estimated cost of up to $4,680 per helicopter and up to $182,520 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-08-06 Airbus Helicopters: Amendment 39-22421; Docket No. FAA-2023-0160; Project Identifier MCAI-2022-01047-R.

(a) Effective Date

This airworthiness directive (AD) is effective June 22, 2023.

(b) Affected ADs

Accomplishing the actions required by this AD terminates all requirements of AD 2020-20-08, Amendment 39-21264 (85 FR 70955, November 6, 2020).

(c) Applicability

This AD applies to Airbus Helicopters Model AS332C, AS332C1, AS332L, AS332L1, AS332L2, and EC225LP helicopters, certificated in any category, as identified in European Union Aviation Safety Agency (EASA) AD 2021-0012, dated January 11, 2021 (EASA AD 2021-0012).

(d) Subject

Joint Aircraft System Component (JASC) Code: 5220, Emergency Exits.

(e) Unsafe Condition

This AD was prompted by a report of an emergency exit window that required excessive pushing force to jettison caused by friction between the jettisonable window and the airframe. The FAA is issuing this AD to prevent excessive friction between the jettisonable cabin window and the airframe. The unsafe condition, if not addressed, could prevent the window from jettisoning, subsequently affecting the evacuation of passengers during an emergency situation.

(f) Compliance

Comply with this AD within the compliance times specified, unless already done.

(g) Requirements

(1) Except as specified in paragraphs (h) and (i) of this AD: Comply with all required actions and compliance times specified in, and in accordance with, EASA AD 2021-0012.

(2) As of the effective date of this AD, do not install a jettisonable window on any helicopter unless the actions required by this AD have been accomplished.

(h) Exceptions to EASA AD 2021-0012

(1) Where EASA AD 2021-0012 requires compliance in terms of flight hours, this AD requires using hours time-in-service.

(2) Where EASA AD 2021-0012 refers to its effective date, the effective date of EASA AD 2019-0107, dated May 16, 2019, and the effective date of EASA AD 2020-0061, dated March 17, 2020, this AD requires using the effective date of this AD.

(3) Where paragraph (1) of EASA AD 2021-0012 specifies compliance within 250 flight hours or 6 months for helicopters not operated over water and within 110 flight hours or 6 months for helicopters operated over water, this AD requires compliance within 110 hours time-in-service (TIS) for Group 1 and Group 2 helicopters, as defined in EASA AD 2021-0012.

(4) Where paragraph (2) of EASA AD 2021-0012 specifies compliance within 25 months, this AD requires compliance within 110 hours TIS.

(5) Where the service information referenced in EASA AD 2021-0012 specifies discarding parts, this AD requires removing those parts from service.

(6) Where the service information referenced in EASA AD 2021-0012 specifies contacting Airbus Helicopters to obtain a technical solution, this AD requires repair done in accordance with a method approved by the Manager, General Aviation & Rotorcraft Section, International Validation Branch, FAA; or EASA; or Airbus Helicopters' EASA Design Organization Approval (DOA). If approved by the DOA, the approval must include the DOA-authorized signature.

(7) Where the service information referenced in EASA AD 2021-0012 specifies to use tooling, this AD allows the use of equivalent tooling.

(8) Where the service information referenced in EASA AD 2021-0012 specifies using a video, this AD does not require using the video.

(9) Paragraph (3) of EASA AD 2021-0012 does not apply to this AD. Refer to paragraph (b) of this AD for affected FAA AD information.

(10) This AD does not adopt the Remarks paragraph of EASA AD 2021-0012.

(i) No Reporting Requirement

Although the service information referenced in EASA AD 2021-0012 specifies to submit certain information to the manufacturer, this AD does not include that requirement.

(j) Special Flight Permit

Special flight permits are prohibited for flights over water with passengers on board.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l)(2) of this AD. Information may be emailed to: 9-AVS-AIR-730-AMOC@faa.gov.

(2) Before using any approved AMOC, notify your appropriate principal inspector, or lacking a principal inspector, the manager of the local flight standards district office/certificate holding district office.

(l) Additional Information

(1) For Airbus Helicopters service information identified in this AD, contact Airbus Helicopters, Ala Ramaden, 2701 N Forum Drive, Grand Prairie, TX 75052, United States; phone: (972) 641-0000; website: airbus.com/helicopters/services/technical-support.html.

(2) For more information about this AD, contact Matthew Fuller, AD Program Manager, General Aviation & Rotorcraft Unit, Airworthiness Products Section, Operational Safety Branch, FAA, 10101 Hillwood Pkwy., Fort Worth, TX 76177; telephone (817) 222-5110; email matthew.fuller@faa.gov.

(m) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency (EASA) AD 2021-0012, dated January 11, 2021.

(ii) [Reserved]

(3) For EASA AD 2021-0012, contact EASA, Konrad-Adenauer-Ufer 3, 50668 Cologne, Germany; phone: +49 221 8999 000; email: ADs@easa.europa.eu. You may find this material on the EASA website at ad.easa.europa.eu.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on April 19, 2023.
Christina Underwood,
Acting Director, Compliance & Airworthiness Division, Aircraft Certification Service.

[FR Doc. 2023-10620 Filed 5-17-23; 8:45 am]

BILLING CODE 4910-13-P